DEPARTMENT OF COMMERCE

Foreign-Trade Zones Board

[Order No. 1713]

Approval for Processing Authority Foreign-Trade Zones 73 and 74; The Belt's Corporation (Kitting of Liquor Gift Sets), Elkridge and Baltimore, MD

Pursuant to its authority under the Foreign-Trade Zones Act of June 18, 1934, as amended (19 U.S.C. 81a-81u), the Foreign-Trade Zones Board (the Board) adopts the following Order:

Whereas, The Belt's Corporation, an operator of Foreign-Trade Zones 73 and 74, has requested processing authority at sites within FTZs 73 and 74 in Elkridge and Baltimore, Maryland (FTZ Docket 16-2010, filed 3/5/2010);

Whereas, notice inviting public comment has been given in the Federal Register (75 FR 12732, 3-17-2010) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application for processing authority under zone procedures within FTZs 73 and 74 on behalf of The Belt's Corporation, as described in the application and Federal Register notice, is approved, subject to the FTZ Act and the Board's regulations, including Section 400.28.

Signed at Washington, DC, October 7, 2010.
Ronald K. Lorentzen,
Deputy Assistant Secretary for Import Administration Alternate Chairman, Foreign-Trade Zones Board.
ATTEST:
Andrew McGilvray,
Executive Secretary.

[FR Doc. 2010-26273 Filed 10-18-10; 8:45 am]

BILLING CODE 3510-DS-P